COMMITTEE FOR THE IMPLEMENTATION OF TEXTILE AGREEMENTS

Announcement of the Paperless ELVIS (Electronic Visa Information System) Requirement for Certain Cotton, Wool, Man-Made Fiber, and Silk Blend and Other Vegetable Fiber Textiles and Textile Products Produced or Manufactured in Hong Kong

May 23, 2002.

AGENCY: Committee for the Implementation of Textile Agreements (CITA).

ACTION: Issuing a directive to the Commissioner of Customs eliminating the paper visa requirement.

EFFECTIVE DATE: June 15, 2002.

FOR FURTHER INFORMATION CONTACT: Anna Flaaten, International Trade Specialist, Office of Textiles and Apparel, U.S. Department of Commerce, (202) 482-3400.

SUPPLEMENTARY INFORMATION:

Authority: Section 204 of the Agricultural Act of 1956, as amended (7 U.S.C. 1854); Executive Order 11651 of March 3, 1972, as amended.

On May 16, 2002, the Governments of the United States and the Hong Kong Special Administrative Region of the People’s Republic of China (HKSAR) signed the Electronic Visa Information System (ELVIS) Arrangement. This arrangement provides for electronic transmission of visa information to the U.S. Customs Service by the Government of Hong Kong for textiles and textile products exported to the United States which describes the shipment and includes the visa number assigned to the shipment. A paper visa will no longer be required. The transmission certifies the country of origin and authorizes the shipment to be charged against any applicable quota.

Effective on June 15, 2002 for entry into the United States, the paper visa requirement is eliminated for textiles and textile products, produced or manufactured in Hong Kong and exported on or after June 15, 2002. The Government of the HKSAR must issue an ELVIS transmission for each shipment of textiles and textile products, as defined in the Arrangement, for textiles and textile products exported on or after June 15, 2002.

In the letter published below, the Chairman of CITA directs the Commissioner of Customs to eliminate the paper visa requirement and to require an ELVIS transmission for shipments of certain textiles and textile products, produced or manufactured in Hong Kong and exported to the United States on or after June 15, 2002. A description of the textile and apparel categories in terms of HTS numbers is available in the CORRELATION: Textile and Apparel Categories with the Harmonized Tariff Schedule of the United States (see Federal Register notice 66 FR 65178, published on December 18, 2001. Also see 58 FR 2400, published on January 19, 1983; 51 FR 27235, published on July 30, 1986, and 63 FR 71621, published on December 29, 1998.

Interested persons are advised to take all necessary steps to ensure that textile products that are entered into the United States for consumption, or withdrawn from warehouse for consumption, will meet the visa requirements set forth in the letter published below to the Commissioner of Customs.

James C. Leonard III,
Chairman, Committee for the Implementation of Textile Agreements.

Committee for the Implementation of Textile Agreements

May 23, 2002.

Commissioner of Customs,

Department of the Treasury, Washington, DC 20229.

Dear Commissioner: This directive amends, but does not cancel, the directive issued to you on January 14, 1983, as amended, by the Chairman, Committee for the Implementation of Textile Agreements, that directed you to prohibit entry of certain cotton, wool, man-made fiber, silk blend and other vegetable fiber textiles and textile products, produced or manufactured in Hong Kong for which the Government of the Hong Kong Special Administrative Region of the People’s Republic of China (HKSAR) has not issued an appropriate export visa and Electronic Visa Information System (ELVIS) transmission.

Effective on June 15, 2002, the paper visa will no longer be required for the entry of shipments of textiles and textile products, produced or manufactured in Hong Kong and exported to the United States on or after June 15, 2002.

Under the terms of section 204 of the Agricultural Act of 1956, as amended (7 U.S.C. 1854), Executive Order 11651 of March 3, 1972, as amended, the Uruguay Round Agreement on Textiles and Clothing (ATC); and pursuant to the Electronic Visa Information System (ELVIS) Arrangement dated May 16, 2002 between the Governments of the United States and the HKSAR, you are directed to prohibit, effective on June 15, 2002, entry into the Customs territory of the United States (i.e., the 50 states, the District of Columbia and the Commonwealth of Puerto Rico) for consumption and withdrawal from warehouse for consumption of cotton, wool, man-made fiber, silk blend and other vegetable fiber textiles and textile products in Categories 200-239, 300-369, 400-469, 600-670, and 800-899, including part categories and merged categories, produced or manufactured in Hong Kong and exported on or after June 15, 2002 for which the Government of the HKSAR has not transmitted an appropriate ELVIS transmission fully described below. Should additional textile products become subject to quantitative restrictions, the product shall be included in the coverage of this directive.

An ELVIS message must accompany each commercial shipment of the aforementioned textile products.

A. Each ELVIS message will include the following information:

i. The visa number. The visa number shall be in the standard nine digit letter format, beginning with one numeric digit for the last digit of the year of export, followed by the two character alpha country code specified by the International Organization for Standardization (ISO) (the code for the HKSAR is “HK”), and a six digit numerical serial number identifying the shipment; e.g., 1HK123456.

ii. The date of issuance. The date of issuance shall be the day, month and year on which the visa was issued.

iii. The correct category(s), part category(s), merged category(s), quantity(s) and unit(s) of quantity provided for in the 1992-1995 bilateral agreement and notified to the Textiles Monitoring Body of the WTO Agreement on Textiles and Clothing and listed in Annexes A and B to the Arrangement. Quantities must be stated in whole numbers. Decimals or fractions will not be accepted.

iv. The manufacturer identification number (MID). The MID shall begin with `HK,' followed by the first three characters from each of the first two words of the name of the manufacturer, followed by the largest number on the address line up to the first four digits, followed by the first three letters from the city name where the manufacturer is located.

B. Entry of a shipment shall not be permitted:

i. if an ELVIS transmission has not been received for the shipment from the Government of the HKSAR;

ii. if the ELVIS transmission for that shipment is missing any of the following:

a. visa number,

b. category, part category or merged category,

c. quantity,

d. unit of measure,

e. date of issuance, or

f. MID;

iii. if the ELVIS transmission for the shipment does not match the information supplied by the importer or by its representatives regarding:

a. visa number

b. category, part category, or merged category, or

c. unit of measure;

iv. if the quantity being entered is greater than the quantity in the transmission.

v. if the visa number has previously been used (except in the case of a split shipment) or canceled, except when an entry has already been made using the visa number.

C. A new, correct ELVIS transmission from the HKSAR is required before a shipment that has been denied entry for one of the circumstances mentioned above will be released.

D. Visa waivers will only be considered if the shipment qualifies as a one-time special purpose shipment that is not part of an ongoing commercial enterprise. A visa waiver may be issued by the Department of Commerce at the request of the Hong Kong Economic and Trade Office in Washington, D.C. for the Government of the HKSAR. A visa waiver only waives the requirement to present a transmission at entry and does not waive any quota requirements.

E. In the event of a systems failure, shipments will not be released for twenty-four hours or one full business day. If system failure exceeds twenty-four hours or one full business day, for the remaining period of the system failure the U.S. Customs Service shall release shipments on the basis of the visa data provided by the Government of the HKSAR.

F. If a shipment from the HKSAR is allowed entry into the commerce of the United States with an incorrect ELVIS transmission, or no ELVIS transmission, or system failure, and redelivery is requested but cannot be made, and where the Government of the HKSAR does not issue a new ELVIS transmission or request a visa waiver (if applicable), the shipment will be charged to the correct category limit whether a visa waiver is provided or a new ELVIS message is transmitted.

Other Provisions:

A. The date of export is the actual date the merchandise finally leaves the country of origin. For merchandise exported by carrier, this is the day on which the carrier last departs the country of origin.

B. With the exception of suits of wool, man-made fibers, silk blend and/or non-cotton vegetable fibers, all textile and apparel products, including bona fide gifts valued at U.S. $50 or less, shipped for the personal use of the importer and not for resale, regardless of value, and properly marked commercial sample shipments valued at U.S. $800 or less do not require a transmission for entry and shall not be charged to agreement levels. Notwithstanding the above, personal shipments of suits of wool, man-made fibers, silk blend and/or non-cotton vegetable fibers accompanying the traveler, regardless of value, do not require a transmission for entry and shall not be charged to any agreement levels.

C. Textile product integrated into the General Agreement on Tariffs and Trade 1994 by the United States in accordance with the WTO Agreement on Textiles and Clothing do not require a transmission.

The Committee for the Implementation of Textile Agreements has determined that these actions fall within the foreign affairs exception of the rulemaking provisions of 5 U.S.C. 553(a)(1).

Sincerely,

James C. Leonard III

Chairman, Committee for the Implementation of Textile Agreements.

[FR Doc. 02-13471 Filed 5-29-02; 8:45 am]

BILLING CODE 3510-DR-S